DEPARTMENT OF ENERGY

Energy Employees Occupational Illness Compensation Program Act of 2000; Revision to List of Covered Facilities

AGENCY: Department of Energy.

ACTION: Notice of revision of list of covered facilities.

SUMMARY: The Department of Energy (“Department” or “DOE”) periodically publishes or revises a list of facilities covered under the Energy Employees Occupational Illness Compensation Program Act of 2000, as amended (“EEOICPA” or “Act”). This notice amends the previous lists by (1) Removing two facilities designated as atomic weapons employer (AWE) facilities that should not have been so designated; (2) correcting the covered periods for three listed AWE facilities; and (3) identifying an additional work site for each of two previously listed facilities. In addition, for one of the listed facilities for which a second work site is being identified, there is a related change in the covered period. Previous lists or revisions were published on April 9, 2009, June 28, 2007, November 30, 2005, August 23, 2004, July 21, 2003, December 27, 2002, June 11, 2001, and January 17, 2001. DOE intends to provide any future updates to its facility list only on its Web site.

ADDRESSES: The Department welcomes comments on this notice. Comments should be addressed to: Patricia R. Worthington, PhD, Director, Office of Health and Safety (HS-10), U.S. Department of Energy, 1000 Independence Avenue, SW., Washington, DC 20585.

FOR FURTHER INFORMATION CONTACT: Patricia R. Worthington, PhD, Director, Office of Health and Safety (HS-10), (301) 903-5926.

SUPPLEMENTARY INFORMATION:

Purpose

The EEOICPA establishes a program to provide compensation to certain employees who develop illnesses as a result of their employment with AWEs, DOE and its predecessor Agencies, certain of its contractors and subcontractors, and listed beryllium vendors. Section 3621(4) of the Act (codified at 42 U.S.C. 7384l(4)) defines an AWE as “an entity, other than the United States, that—(A) processed or produced, for use by the United States, material that emitted radiation and was used in the production of an atomic weapon, excluding uranium mining and milling; and (B) is designated by the Secretary of Energy as an [AWE] for the purposes of the compensation program.” Section 3621(5) defines an AWE facility as “a facility, owned by an [AWE], that is or was used to process or produce, for use by the United States, material that emitted radiation and was used in the production of an atomic weapon, excluding uranium mining or milling.” The Act defines a DOE facility, in pertinent part, as “any building, structure, or premise, including the grounds upon which such building, structure, or premise is located—(A) in which operations are, or have been, conducted by, or on behalf of, the Department of Energy . . .; and (B) with regard to which the Department of Energy has or had—(i) a proprietary interest; or (ii) entered into a contract with an entity to provide management and operation, management and integration, environmental remediation services, construction, or maintenance services.”

It has recently come to the attention of the Department that one facility was previously mistakenly designated as an AWE facility because the designated facility was owned by the U.S. Government, and the statutory definitions of AWE and AWE facility exclude facilities owned by the United States. A second entity identified as an AWE facility is being removed from the list because the work performed by that entity was not related to production of an atomic weapon and was not performed for, or on behalf of, DOE or its predecessor Agencies. DOE has also recently become aware of additional information regarding the work locations for two previously listed AWEs and related periods of covered work; and needed corrections for the covered time period for three other covered facilities on the list. This new information is reflected in changes to the list of covered facilities. DOE intends to provide any future updates to its facility list only on its Web site found at: http://www.hss.doe.gov/healthsafety/FWSP/Advocacy/faclist/findfacility.cfm.

This notice formally makes the changes to the list as indicated below:

• Painsville Site (Diamond Magnesium Company) of Ohio is no longer designated as an AWE facility because the work performed at that site was not related to atomic weapons production and was not conducted by, or on behalf of, DOE or its predecessor Agencies.

• St. Louis Airport Storage Site is no longer designated as an AWE facility because the facility was owned by the U.S. Government. However, it is currently designated by the Department of Labor as a DOE facility.

• The facility description for Babcock and Wilcox Technologies, Inc. (BWXT), Nuclear Facility in Lynchburg, Virginia, is modified by adding a second site where covered operations took place to reflect recently discovered information. In addition, the covered time period is being changed to include the period of time covered work was performed at this second site. Thus, an additional time from 1956 to 1959 is being added.

• The covered period for Blockson Chemical Company in Joliet, Illinois, is changed from 1951-1962 to 1951-June 1960 because newly discovered information indicates that no uranium processing took place at that facility for the Atomic Energy Commission (AEC), a predecessor to DOE, after June 1960.

• The facility description for Carborundum Company, of Niagara Falls, New York, is changed by adding a second distinct work location for this company, and the time period of the work performed is changed to include the years 1943-1944 and 1959-1967. These changes are made to reflect recently discovered information.

• The covered period for Texas City Chemicals, Inc. (TCC), Texas City, Texas, is changed from 1952-1956 to October 1953-September 1955 to reflect recently discovered records, which indicates that the work on behalf of AEC was not begun until October 1953 and ended in September 1955.

• The covered period for the Wah Chang facility in Albany, Oregon, is changed from 1956-1959 to 1971-1972 based on recently discovered information.

Issued in Washington, DC, on June 21, 2010.
Glenn S. Podonsky,
Chief Health, Safety and Security Officer, Office of Health, Safety and Security.

[FR Doc. 2010-15903 Filed 6-29-10; 8:45 am]

BILLING CODE 6450-01-P